DEPARTMENT OF HEALTH AND HUMAN SERVICES

Centers for Disease Control and Prevention

National Institute for Occupational Safety and Health; Meeting

The National Institute for Occupational Safety and Health (NIOSH) of the Centers for Disease Control and Prevention (CDC) announces the following meeting:

Name: Continued Discussions for Concepts of Powered Air-Purifying Respirator (PAPR) Standards Development Efforts Used for Respiratory Protection Against Chemical, Biological, Radiological, and Nuclear (CBRN) Agents.

Date and Time: 9 a.m.-5 p.m., May 4, 2004.

Place: Hilton Garden Inn, Pittsburgh/Southpointe, 1000 Corporate Drive, Canonsburg, Pennsylvania.

Status: This meeting is hosted by NIOSH and will be open to the public, limited only by the space available. The meeting room will accommodate approximately 175 people. Interested parties should make hotel reservations directly with the Hilton Garden Inn (724-743-5000/1-800-445-8667) before the cut-off date of April 20, 2004. Special group rates of $55 per night for Federal participants and $79 per night for non-federal participants have been negotiated for this meeting. The NIOSH/National Personal Protective Technology Laboratory (NPPTL) public meeting must be referenced to receive these special rates. Interested parties should confirm their attendance to this meeting by completing a registration form and forwarding it by e-mail (npptlevents@cdc.gov) or fax (304-285-4459) to the NPPTL Event Management Office. A registration form may be obtained from the NIOSH home page (www.cdc.gov/niosh) by selecting conferences and then the event.

An opportunity to make presentations regarding the discussions of concepts for standards and testing processes for PAPR standards suitable for respiratory protection against CBRN agents will be given. Requests to make such presentations at the public meeting should be made by e-mail to the NPPTL Event Management Office (npptlevents@cdc.gov). All requests to present should include the name, address, telephone number, relevant business affiliations of the presenter, a brief summary of the presentation, and the approximate time requested for the presentation. Oral presentations should be limited to 15 minutes.

After reviewing the requests for presentations, NPPTL Event

Management will notify each presenter of the approximate time that their presentation is scheduled to begin. If a participant is not present when their presentation is scheduled to begin, the remaining participants will be heard in order. At the conclusion of the meeting, an attempt will be made to allow presentations by any scheduled participants who missed their assigned times. Attendees who wish to speak but did not submit a request for the opportunity to make a presentation may be given this opportunity at the conclusion of the meeting, at the discretion of the presiding officer.

Comments on the topics presented in this notice and at the meeting should be mailed to the NIOSH Docket Office, Robert Taft Laboratories, M/S C34, 4676 Columbia Parkway, Cincinnati, Ohio 45226, Telephone (513) 533-8303, Fax (513) 533-8285. Comments may also be submitted by e-mail to niocindocket@cdc.gov. E-mail attachments should be formatted in Microsoft Word. Comments should be submitted to NIOSH no later than June 4, 2004, and should reference Docket Number NIOSH-010 in the subject heading.

Purpose: NIOSH will continue discussions of conceptual standards and testing processes for PAPR standards suitable for respiratory protection against CBRN agents. NIOSH also wishes to obtain comments from individuals regarding the tentative schedules and priorities for future CBRN respirator standards development efforts.

NIOSH, along with the U.S. Army Research, Development and Engineering Command (RDECOM, formerly SBCCOM) and the National Institute for Standards and Technology (NIST) will present information to attendees concerning the concept development for the PAPR CBRN standard. Participants will be given an opportunity to ask questions on these topics and to present individual comments for consideration. Interested participants may obtain a copy of the PAPR CBRN concept paper, as well as earlier versions of other concept papers used during the standard development effort, from the NIOSH NPPTL Web site, address: http://www.cdc.gov/niosh/npptl. The April 1, 2004, concept paper will be used as the basis for discussion at the public meeting. During the October 16, 2003, public meeting, NIOSH indicated that subsequent future standards efforts following the completion of the PAPR CBRN standard would be in this sequence: Integrated self-contained breathing apparatus (SCBA)/PAPR, integrated SCBA/air-purifying respirators (APR), closed-circuit SCBA, and supplied air respirators. NIOSH wishes to obtain comments from individuals regarding this tentative priority order sequence to determine if it reflects the priorities of the stakeholder community's needs for respiratory protection. Recent acts of terrorism have created an urgent awareness of domestic security and preparedness issues. Municipal, State, and Federal responder groups, particularly these in locations considered potential targets, have been developing and modifying response and consequence management plans. Since the World Trade Center and anthrax incidents, most emergency response agencies have operated with a heightened appreciation of the potential scope and sustained resources requirements for coping with such events. The Federal Interagency Board for Equipment Standardization and Interoperability (IAB) has worked to identify personal protective equipment that is already available on the market for responders' use. The IAB has identified the development of standards or guidelines for respiratory protection equipment as a top priority. NIOSH, NIST, the National Fire Protection Association (NFPA), and the Occupational Safety and Health Administration have entered into a Memorandum of Understanding defining each agency or organization's role in developing, establishing, and enforcing standards or guidelines for responders' respiratory protective devices. NIST has initiated Interagency Agreements with NIOSH and RDECOM to aid in the development of appropriate protection standards or guidelines. NIOSH has the lead in developing standards or guidelines to test, evaluate, and approve respirators.

NIOSH, RDECOM, and NIST have hosted public meetings on April 17 and 18, 2001; June 18 and 19, 2002; October 16 and 17, 2002; April 29, 2003; June 25, 2003, and October 16, 2003, presenting their progress in assessing respiratory protection needs of responders to CBRN incidents. The methods or models for developing hazard and exposure estimates and the status in evaluating test methods and performance standards that may be applicable as future CBRN respirator standards or guidelines were discussed at these meetings.

Three NIOSH CBRN respirator standards and several NFPA standards for ensembles, SCBA and protective clothing were the first adopted by the U.S. Department of Homeland Security (DHS). On February 26, 2004, DHS adopted, as DHS standards, three NIOSH criteria for testing and certifying respirators for protection against CBRN exposures. NIOSH uses the criteria to test (1) SCBA for use by emergency responders against CBRN, (2) APR for use by emergency responders against CBRN exposures, and (3) escape respirators for protection against CBRN.

For Further Information Contact: NPPTL Event Management, 3610 Collins Ferry Road, P.O. Box 880, Morgantown, West Virginia 26507-0880, Telephone (304) 285-4750, Fax (304) 285-4459, e-mail npptlevents@cdc.gov.

The Director, Management Analysis and Services Office, has been delegated the authority to sign Federal RegisterNotices pertaining to announcements of meetings and other committee management activities, for both CDC and the Agency for Toxic Substances and Disease Registry.

Dated: March 18, 2004.
Alvin Hall,
Director, Management Analysis and Services Office, Centers for Disease Control and Prevention.

[FR Doc. 04-6529 Filed 3-23-04; 8:45 am]

BILLING CODE 4163-19-P